DEPARTMENT OF COMMERCE

National Oceanic and Atmospheric Administration

[Docket No.: 040825246-4246-01]

Privacy Act of 1974; System of Records

AGENCY: Department of Commerce.

ACTION: Notice of a new Privacy Act System of Records: COMMERCE/NOAA System-17, Permits and Registrations for Fisheries of the Exclusive Economic Zone (EEZ) off the Coast of Alaska.

SUMMARY: This notice announces the Department of Commerce's (Department's) proposal for a new system of records under the Privacy Act. The National Marine Fisheries Service (NMFS), Alaska Region is creating a new system of records for permits and non-permit registrations used in a variety of management programs for commercial, recreational, and subsistence fisheries. NMFS requires the use of permits or registrations by participants in the fisheries of the EEZ off the coast of Alaska. Applications for various types of permits and registrations would be used to collect information from individuals under authority of the Magnuson-Stevens Act and the North Pacific Halibut Act of 1982. Applications for the various types of permits and registrations are necessary to determine the identification of participants and to evaluate the qualifications of the applicants.

DATES: To be considered, written comments must be submitted on or before April 4, 2005. Unless comments are received, the new system of records will become effective as proposed on the date of publication of a subsequent notice in the Federal Register.

ADDRESSES: Comments may be mailed to Sue Salveson, Assistant Regional Administrator for Sustainable Fisheries, Alaska Region, National Marine Fisheries Service, P.O. Box 21668, Juneau, Alaska 99802, Attn: Lori Durall, or delivered to the Federal Building, 709 West 9th Street, Juneau, Alaska, 99801.

FOR FURTHER INFORMATION CONTACT: Patsy A. Bearden, 907-586-7008.

SUPPLEMENTARY INFORMATION: The NMFS, Alaska Region is creating a new system of records for permits and non-permit registrations used in a variety of management programs for commercial, recreational, and subsistence fisheries. NMFS requires the use of permits or registrations by participants in the fisheries of the EEZ off the coast of Alaska and for halibut in all waters off Alaska. Applications for various types of permits and registrations would be used to collect information from individuals under authority of the Magnuson-Stevens Act and/or the Halibut Act of 1982. Applications for the various types of permits and registrations are necessary to determine the identification of participants and to evaluate the qualifications of the applicants. NMFS, Alaska Region issues permits or registrations for the programs listed below. Not all of the permit applications request the social security number (SSN). Where the SSN is requested, bracketed information indicates whether the response to the request is voluntary [SSN voluntary] or mandatory [SSN mandatory]. If mandatory, the authority for this type of collection is the Debt Collection Improvement Act, 31 U.S.C. 7701.

• American Fisheries Act Permits (pollock): Catcher vessel [SSN voluntary], catcher/processor, mothership [SSN voluntary], inshore processor [SSN voluntary], inshore cooperative, inshore vessel contract fishing, and replacement vessel [SSN voluntary].

• Western Alaska Community Development Quota (CDQ) Program Halibut CDQ Permit (Pacific halibut), CDQ Landing Cardholder or Hired Master [SSN voluntary], Registered Buyer Permit [SSN voluntary].

• Exempted Fisheries Permit (NOAA-approved studies).

• Prohibited Species Donation Program Permit.

• Federal Fisheries Permit (groundfish catcher vessels, catcher/processors and motherships) [SSN voluntary].

• Federal Processor Permit (groundfish shoreside processors and stationary floating processors) [SSN voluntary].

• Halibut Subsistence Rural Resident Registration and Halibut Subsistence Alaska Native Tribal Registration (Pacific halibut).

• Individual fishing quota (IFQ) halibut and sablefish permits (Pacific halibut and sablefish): Eligibility to receive quota share/individual fishing quota (QS/IFQ) [SSN mandatory], IFQ Hired Master [SSN voluntary], Registered Buyer Permit [SSN voluntary], Transfer eligibility certificate [SSN mandatory], QS/IFQ Transfer [SSN mandatory], QS/IFQ Transfer by Sweep-up [SSN mandatory].

• License Limitation Program permit for groundfish, crab, or scallops [SSN voluntary].

• Prohibited Species Donation Permit (Pacific halibut and salmon).

• Crab IFQ of the Bearing Sea and Aleutian Islands Management Area (BSAI) off the coast of Alaska permits: Crab Quota Share (QS) or Processor Quota Share (PQS) [SSN mandatory], Crab Individual Fishing/Individual Processing IFQ/IPQ Permit [SSN voluntary], Registered Crab Receiver Permit [SSN mandatory], Federal Crab Vessel Permit [SSN voluntary], Application to Become An Eligible Crab Community Organization (ECCO), Eligibility to Receive Crab QS/IFQ or PQS/IPQ by Transfer [SSN mandatory], Transfer of Crab QS/IFQ or PQS/IPQ [SSN mandatory], Transfer QS/IFQ to or from an ECCO, Application for Inter-cooperative transfer, Request for Replacement of Lost/Destroyed Permit or Registration [SSN voluntary].

COMMERCE/NOAA-17

System Name:

Permits and Registrations for Fisheries of the Exclusive Economic Zone (EEZ) off the Coast of Alaska.

Security Classification:

None.

System Location:

National Marine Fisheries Service (NMFS), Alaska Region, 709 West Ninth Street, Juneau, Alaska 99801.

Categories of Individuals Covered by the System:

Owners of catcher vessels, catcher/processors, motherships, and tender or support vessels. Owners of shoreside processors and stationary floating processors. Applicants seeking to become authorized distributors of prohibited species, salmon and halibut. Applicants seeking permission to fish in a manner that would otherwise be prohibited in order to conduct limited experimental fishing. Individuals who apply for any permit or registration, initially, annually, or by transfer. Individuals who wish to hire masters to fish a person's permit. Persons receiving halibut or sablefish individual fishing quota (IFQ) or Western Alaska Community Development Quota Program (CDQ) halibut from harvesting vessel; vessel operators and persons making certain types of transfers of IFQ fish and of CDQ halibut from the harvesting vessel. Persons applying for or receiving crab quota share (QS), processor quota share (PQS), IFQ, or individual processing quota (IPQ). Individuals hiring a master for crab. Persons offloading processed crab IFQ or receiving unprocessed crab harvested under an IFQ permit. Residents of an Alaska rural community as defined in 50 CFR 300.61. Members of Alaska Native tribes as defined in 50 CFR 300.61.

Categories of Records in the System:

Applicant name, address, telephone number, FAX number, e-mail address, date of birth, home telephone number, National Marine Fisheries Service internal identification number, and social security number (both mandatory and voluntary collections). Mandatory collection of social security numbers for: (1) Individual fishing quota halibut and sablefish permits: Eligibility to receive quota share/individual fishing quota; Transfer eligibility certificate; Quota share/individual fishing quota Transfer; Quota share/individual fishing quota Transfer by Sweep-Up; (2) Crab individual fishing quota of the Bearing Sea and Aleutian Islands Management Areas off the coast of Alaska permits: Crab Quota Share or Processor Quota Share; Registered Crab Receiver Permit; Eligibility to Receive Crab quota share/individual fishing quota or processor quota share/individual processing quota by Transfer; Transfer of Crab quota share/individual fishing quota or processing quota share/individual processing quota. Community of residence. Name of Alaska Native tribe. Citizenship. Printed name and signature. Reference names. Name of intended hired master and same personal information as for applicant.

Authority for Maintenance of the System:

Magnuson-Stevens Fishery Conservation and Management Act, 16 U.S.C. 1853; North Pacific Halibut Act of 1982, 16 U.S.C. 773; Debt Collection Improvement Act, 31 U.S.C. 7701.

Purpose(s):

This information will allow the identification and evaluation of participants in the various fisheries in the EEZ off the coast of Alaska; and of the Pacific halibut fishery in all waters off the coast of Alaska.

Routine Uses of Records Maintained in the System, Including Categories of Users and the Purposes of Such Uses:

These records or information contained therein may specifically be disclosed as a routine use as stated below. The Department will, when so authorized, make the determination as to the relevancy of a record prior to its decision to disclose a document.

1. In the event that a system of records maintained by the Department to carry out its functions indicates a violation or potential violation of law or contract, whether civil, criminal or regulatory in nature and whether arising by general statute or particular program statute or contract, or rule, regulation or order issued pursuant thereto, or the necessity to protect an interest of the Department, the relevant records in the system of records may be referred to the appropriate agency, whether Federal, state, local or foreign, charged with the responsibility of investigating or prosecuting such violation or charged with enforcing or implementing the statute or contract, or rule, regulation or order issued pursuant thereto, or protecting the interest of the Department.

2. A record from this system of records may be disclosed in the course of presenting evidence to a court, magistrate or administrative tribunal, including disclosures to opposing counsel in the course of settlement negotiations.

3. A record in this system of records may be disclosed to a member of Congress submitting a request involving an individual when the individual has requested assistance from the member with respect to the subject matter of the record.

4. A record in this system of records may be disclosed to a contractor of the Department having need for the information in the performance of the contract, but not operating a system of records within the meaning of 5 U.S.C. 552a(m).

5. A record in this system of records may be disclosed to approved persons of the State of Alaska under an Interagency Cooperative Data Sharing Agreement, for the purpose of co-managing a fishery or for making determinations about eligibility for permits when State data are all or part of the basis for the permits.

6. A record in this system of records may be disclosed to North Pacific Fishery Management Council (Council) staff and contractors tasked with development of analyses to support Council decisions about fishery management programs.

Policies and Practices for Storing, Retrieving, Accessing, Retaining, and Disposing of Records in the System:

Storage:

Computerized data base; electronic storage media; paper records in file folders in locked cabinets.

Retrievability:

May be retrieved by NMFS internal identification number, name of applicant, vessel permit number, plant permit number, vessel name, or plant name; however, records can be accessed by any file element or any combination thereof.

Safeguards:

Buildings employ security systems with locks and access limits. Only those that have the need to know, to carry out the official duties of their job, have access to the data. Computerized data base is password protected and access is limited. Paper records are maintained in secured file cabinets in areas that are accessible only to authorized personnel. Safeguards exist on the computer network where databases are stored. NMFS' contractors, to whom access to this information is granted in accordance with this system of records routine uses provision, are instructed on the confidential nature of this information.

Retention and Disposal:

All records shall be retained and disposed of in accordance with National Archives and Records Administration regulations (36 CFR subchapter b—Records Retention), Departmental directives and comprehensive records schedules.

System Manager(s) and Address:

NMFS, Alaska Region, 709 West Ninth Street, Juneau, Alaska 99801.

Notification Procedure:

Individuals seeking to determine whether information about themselves is contained in this system should address written inquiries to the System Manager. Written requests must be signed by the requesting individual.

Record Access Procedures:

Requests from individuals regarding this system of records should be addressed to the same address as stated in the Notification section above.

Contesting Record Procedures:

The Department's rules for access, for contesting contents, and appealing initial determinations by the individual concerned appear in 15 CFR part 4b. Use address contained in the notification section.

Record Source Categories:

The individual on whom the record is maintained provides information.

Exemptions Claimed for the System:

None.

Dated: February 25, 2005.
Brenda Dolan,
Department of Commerce, Freedom of Information/Privacy Act Officer.

[FR Doc. 05-4109 Filed 3-2-05; 8:45 am]

BILLING CODE 3510-22-P